DEPARTMENT OF TRANSPORTATION

Federal Aviation Administration

14 CFR Part 39

[Docket No. FAA-2012-0270; Directorate Identifier 2011-NM-113-AD]

RIN 2120-AA64

Airworthiness Directives; Fokker Services B.V. Airplanes

AGENCY: Federal Aviation Administration (FAA), DOT.

ACTION: Notice of proposed rulemaking (NPRM).

SUMMARY: We propose to adopt a new airworthiness directive (AD) for all Fokker Services B.V. Model F.27 Mark 050 airplanes, and Model F.28 Mark 0070 and 0100 airplanes. This proposed AD was prompted by reports of loose nuts on contactors in the electrical power center (EPC), and in some cases, burned contactors. This proposed AD would require inspecting and, if necessary, adjusting, the torque values of nuts on circuit breakers, contactors and terminal blocks of the EPC and battery relay panel. This proposed AD would also require inspecting to determine if certain parts are installed, and installing the parts if necessary. We are proposing this AD to detect and correct loose nuts, which could result in arcing and potentially an onboard fire, possibly resulting in damage to the airplane and injury to occupants or maintenance personnel.

DATES: We must receive comments on this proposed AD by May 7, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2012-0270; Directorate Identifier 2011-NM-113-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0083, dated May 12, 2011 (referred to after this as “the MCAI”), to correct an unsafe condition for the specified products. The MCAI states:

In December 1989, Fokker issued Service Bulletin (SB) SBF50-24-A013 and SBF100-24-A011 (both Alert Bulletins) to instruct operators to inspect and adjust several torque values of bus bars and contactors in the EPC. The Civil Aviation Authority of The Netherlands (CAA-NL, formerly RLD) issued AD (BLA) 89-159 and BLA 89-157 respectively (both now at issue 2), to require operators of the affected aeroplanes to comply with the instructions of these SBs.

Since those ADs were issued, several operators have reported finding loose nuts on contactors in the EPC of Fokker 50/60 aeroplanes in post-SBF50-24-A013 configuration and on Fokker 70/100 aeroplanes in post-SBF100-24-A011 configuration. In some cases, the findings included damaged (burned) contactors.

This condition, if not detected and corrected, could lead to arcing and, in combination with other factors, to an onboard fire, possibly resulting in damage to the aeroplane and injury to occupants or maintenance personnel.

For the reasons described above, this [EASA] AD requires a one-time [torque check] inspection and, depending on findings, adjustment of the torque values of nuts on circuit breakers, contactors and terminal blocks [of the EPC and battery relay panel].

The required actions include doing a general visual inspection to determine if either the lock washer, flat washer and nut, or locking nut and flat washer, are installed; and installing a new lock washer or self-locking nut, if necessary; and applying torque inspection lacquer. You may obtain further information by examining the MCAI in the AD docket.

Relevant Service Information

Fokker Services B.V. has issued Fokker Service Bulletins SBF50-24-032, including Fokker Manual Change Notification—Maintenance Documentation MCNM-F50-072 (for Model F.27 Mark 050 airplanes), and SBF100-24-043, including Fokker Manual Change Notification—Maintenance Documentation MCNM-F100-141 (for Model F.28 Mark 0070 and 0100 airplanes), both dated February 10, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

This AD differs from the MCAI and/or service information as follows: The MCAI specifies certain concurrent requirements. This AD does not include those requirements because the actions are already required by FAA AD 98-03-18, Amendment 39-10310 (63 FR 6066, February 6, 1998); and FAA AD 2009-18-05, Amendment 39-16001 (74 FR 43625, August 27, 2009).

Costs of Compliance

Based on the service information, we estimate that this proposed AD would affect about 6 products of U.S. registry. We also estimate that it would take about 5 work-hours per product to comply with the basic requirements of this proposed AD. The average labor rate is $85 per work-hour. Based on these figures, we estimate the cost of the proposed AD on U.S. operators to be $2,550, or $425 per product.

In addition, we estimate that any necessary follow-on actions would take about 4 work-hours and require parts costing $25, for a cost of $365 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Fokker Services B.V.: Docket No. FAA-2012-0270; Directorate Identifier 2011-NM-113-AD.

(a) Comments Due Date

We must receive comments by May 7, 2012.

(b) Affected ADs

None.

(c) Applicability

This AD applies to all Fokker Services B.V. Model F.27 Mark 050 airplanes, and Model F.28 Mark 0070 and 0100 airplanes, certificated in any category.

(d) Subject

Air Transport Association (ATA) of America Code 24: Electric power.

(e) Reason

This AD was prompted by reports of loose nuts on contactors in the electrical power center (EPC), and in some cases, burned contactors. We are issuing this AD to detect and correct loose nuts, which could result in arcing and potentially an onboard fire, possibly resulting in damage to the airplane and injury to occupants or maintenance personnel.

(f) Compliance

You are responsible for having the actions required by this AD performed within the compliance times specified, unless the actions have already been done.

(g) Actions

Within 24 months after the effective date of this AD, do the actions specified in paragraphs (g)(1), (g)(2), and (g)(3) of this AD.

(1) Do a torque check of the nuts and circuit breakers, contactors, and terminal blocks of the EPC and battery relay panel, as applicable, and do all applicable adjustments of the torque values, in accordance with the Accomplishment Instructions of Fokker Service Bulletin SBF50-24-032, including Fokker Manual Change Notification—Maintenance Documentation MCNM-F50-072 (for Model F.27 Mark 050 airplanes); or SBF100-24-043, including Fokker Manual Change Notification—Maintenance Documentation MCNM-F100-141 (for Model F.28 Mark 0070 and 0100 airplanes; both dated February 10, 2011. Do all applicable adjustments before further flight.

(2) Do a general visual inspection of the contacts and nuts on circuit breakers, contactors, and terminal blocks of the electrical power center (EPC) and battery relay panel to determine if either the lock washer, flat washer and nut, or locking nut and flat washer are installed, and do all applicable installations; in accordance with the Accomplishment Instructions of Fokker Service Bulletin SBF50-24-032, including Fokker Manual Change Notification—Maintenance Documentation MCNM-F50-072 (for Model F.27 Mark 050 airplanes); or SBF100-24-043, including Fokker Manual Change Notification—Maintenance Documentation MCNM-F100-141 (for Model F.28 Mark 0070 and 0100 airplanes; both dated February 10, 2011. Do all applicable installations before further flight.

(3) Before further flight after accomplishing any check required by paragraph (g)(1) of this AD or any inspection required by paragraph (g)(2) of this AD: Apply torque inspection lacquer, in accordance with the Accomplishment Instructions of Fokker Service Bulletin SBF50-24-032, including Fokker Manual Change Notification—Maintenance Documentation MCNM-F50-072 (for Model F.27 Mark 050 airplanes); or SBF100-24-043, including Fokker Manual Change Notification—Maintenance Documentation MCNM-F100-141 (for Model F.28 Mark 0070 and 0100 airplanes; both dated February 10, 2011.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI EASA Airworthiness Directive 2011-0083, dated May 12, 2011, and the service information specified in paragraphs (i)(1) and (i)(2) of this AD, for related information.

(1) Fokker Service Bulletin SBF50-24-032, including Fokker Manual Change Notification—Maintenance Documentation MCNM-F50-072, dated February 10, 2011.

(2) Fokker Service Bulletin SBF100-24-043, including Fokker Manual Change Notification—Maintenance Documentation MCNM-F100-141, dated February 10, 2011.

Issued in Renton, Washington, on March 9, 2012.
Ali Bahrami,
Manager, Transport Airplane Directorate, Aircraft Certification Service.

[FR Doc. 2012-6804 Filed 3-20-12; 8:45 am]

BILLING CODE 4910-13-P